DEPARTMENT OF THE INTERIOR

Fish and Wildlife Service

Notice of Intent To Prepare Comprehensive Conservation Plans and an Associated Environmental Impact Statement

ACTION: Notice of intent to prepare comprehensive conservation plans and an associated environmental impact statement for island units of the eastern Massachusetts national wildlife refuge complex.

SUMMARY: This notice advises the public that the U.S. Fish and Wildlife Service (Service) intends to gather information necessary to prepare Comprehensive Conservation Plans (CCP) and an associated Environmental Impact Statement (EIS) pursuant to section 102(2)C of the National Environmental Policy Act and its implementing regulations, for three units of the eight-unit Eastern Massachusetts National Wildlife Refuge Complex , located in the Commonwealth of Massachusetts. These three refuges are Monomoy National Wildlife Refuge (NWR), Nantucket NWR, and Nomans Land Island NWR. The Refuges are in Barnstable, Nantucket, and Dukes Counties, Massachusetts. Concurrent with the CCP process, the Service will conduct a wilderness review and incorporate a summary of the review into the appropriate CCP and EIS. The CCPs of the remaining five refuges of the Complex (Assabet River NWR, Great Meadows NWR, Mashpee NWR, Massasoit NWR, and Oxbow NWR) will be evaluated in a separate Environmental Assessment (EA).

This notice amends a previous notice, published on February 24, 1999, that stated an EIS would be developed for all eight units of the Complex (then called Great Meadows National Wildlife Refuge Complex). Comments already received for these refuges under the previous notice will be considered. The Service invites agencies, groups and the public to submit any additional comments concerning the scope of issues to be addressed, as well as possible alternatives and environmental impacts to consider in the EIS.

The Service is furnishing this notice in compliance with the National Wildlife Refuge System Administration Act of 1966, as amended (16 U.S.C. 668dd et seq.):

(1) To advise other agencies and the public of our intentions, and

(2) To obtain suggestions and information on the scope of issues to include in the environmental documents.

DATES: Inquire at the following address for dates of planning activity and due dates for comments.

ADDRESSES: Address comments and requests for more information to the following: Refuge Manager, Great Meadows National Wildlife Refuge, Weir Hill Road, Sudbury, Massachusetts 01776, (978) 443-4661.

SUPPLEMENTARY INFORMATION: By Federal law, all lands within the National Wildlife Refuge System are to be managed in accordance with an approved CCP. The CCP guides management decisions and identifies refuge goals, long-range objectives, and strategies for achieving refuge purposes. The planning process will consider many elements, including habitat and wildlife management, habitat protection and acquisition, public use, and cultural resources. Public input into this planning process is essential. The CCP will provide other agencies and the public with a clear understanding of the desired conditions for the Refuges and how the Service will implement management strategies.

The Service has already solicited information from the public via open houses, meetings, and written comments. Special mailings, newspaper articles, and announcements will continue to inform people in the general area near each refuge of the time and place of opportunities for further public input to the CCP.

The Eastern Massachusetts NWR Complex is a diverse group of coastal and inland refuges. Habitats include forest, field, riparian, barrier island beach, freshwater marsh, and pond. Monomoy NWR contains 2,700 acres, a portion of which is Federal Wilderness Area; Nantucket 40 acres; and Nomans Land Island 628 acres.

Review of this project will be conducted in accordance with the requirements of the National Environmental Policy Act of 1969, as amended (42 U.S.C. 4321 et seq.), NEPA Regulations (40 CFR 1500-1508), other appropriate Federal laws and regulations, and Service policies and procedures for compliance with those regulations. Concurrent with the CCP process we will conduct a wilderness review and incorporate a summary of the review into the CCP. Wilderness review is the process we use to determine if we should recommend Refuge System lands and waters to Congress for wilderness designation.

We estimate that the draft environmental documents will be available in fall 2001 for public review and comment.

Dated: January 19, 2001.
Mamie Parker,
Acting Regional Director, U.S. Fish and Wildlife Service, Hadley, Massachusetts.

[FR Doc. 01-3822 Filed 2-14-01; 8:45 am]

BILLING CODE 4310-55-P